OFFICE OF THE UNITED STATES TRADE REPRESENTATIVE

Fiscal Year 2022 Tariff-Rate Quota Allocations for Raw Cane Sugar, Refined and Specialty Sugar, and Sugar-Containing Products

AGENCY: Office of the United States Trade Representative.

ACTION: Notice.

SUMMARY: The Office of the United States Trade Representative is providing notice of allocations of the Fiscal Year (FY) 2022 (October 1, 2021 through September 30, 2022) in-quota quantity of the tariff-rate quotas (TRQs) for imported raw cane sugar, certain sugars, syrups and molasses (also known as refined sugar), specialty sugar, and sugar-containing products.

DATES: The changes made by this notice are applicable as of September 16, 2021.

FOR FURTHER INFORMATION CONTACT: Erin Nicholson, Office of Agricultural Affairs, at 202-395-9419, or Erin.H.Nicholson@ustr.eop.gov.

SUPPLEMENTARY INFORMATION: Pursuant to Additional U.S. Note 5 to Chapter 17 of the Harmonized Tariff Schedule of the United States (HTSUS), the United States maintains TRQs for imports of raw cane sugar and refined sugar. Pursuant to Additional U.S. Note 8 to Chapter 17 of the HTSUS, the United States maintains a TRQ for imports of sugar-containing products.

Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On September 13, 2021, the Administrator of the Foreign Agricultural Service of the U.S. Department of Agriculture (Administrator) announced the sugar program provisions for FY2022. The Administrator announced an in-quota quantity of the TRQ for raw cane sugar for FY2022 of 1,117,195 metric tons raw value (MTRV) (conversion factor: 1 metric ton raw value = 1.10231125 short tons raw value), which is the minimum amount to which the United States is committed under the World Trade Organization (WTO) Agreement. The U.S. Trade Representative is allocating this quantity (1,117,195 MTRV) to the following countries in the amounts specified below:

Country | FY2022 raw cane sugar allocations (MTRV)
Argentina | 45,281
Australia | 87,402
Barbados | 7,371
Belize | 11,584
Bolivia | 8,424
Brazil | 152,691
Colombia | 25,273
Congo (Brazzaville) | 7,258
Costa Rica | 15,796
Cote d'Ivoire | 7,258
Dominican Republic | 185,335
Ecuador | 11,584
El Salvador | 27,379
Fiji | 9,477
Gabon | 7,258
Guatemala | 50,546
Guyana | 12,636
Haiti | 7,258
Honduras | 10,530
India | 8,424
Jamaica | 11,584
Madagascar | 7,258
Malawi | 10,530
Mauritius | 12,636
Mexico | 7,258
Mozambique | 13,690
Nicaragua | 22,114
Panama | 30,538
Papua New Guinea | 7,258
Paraguay | 7,258
Peru | 43,175
Philippines | 142,160
South Africa | 24,220
St. Kitts & Nevis | 7,258
Swaziland | 16,849
Taiwan | 12,636
Thailand | 14,743
Trinidad & Tobago | 7,371
Uruguay | 7,258
Zimbabwe | 12,636

These allocations are based on the countries' historical shipments to the United States. The allocations of the in-quota quantities of the raw cane sugar TRQ to countries that are net importers of sugar are conditioned on receipt of the appropriate verifications of origin. Certificates for quota eligibility must accompany imports from any country for which an allocation has been provided.

On September 13, 2021, the Administrator also announced the establishment of the in-quota quantity of the FY2022 refined sugar TRQ at 222,000 MTRV, for which the sucrose content, by weight in the dry state, must have a polarimeter reading of 99.5 degrees or more. This amount includes the minimum level to which the United States is committed under the WTO Agreement (22,000 MTRV of which 1,656 MTRV is reserved for specialty sugar) and an additional 200,000 MTRV for specialty sugars. The U.S. Trade Representative is allocating the refined sugar TRQ as follows: 10,300 MTRV to Canada, 2,954 MTRV to Mexico, and 7,090 MTRV to be administered on a first-come, first-served basis.

Imports of all specialty sugar will be administered on a first-come, first-served basis in five tranches. The Administrator has announced that the total in-quota quantity of specialty sugar will be the 1,656 MTRV reserved within the WTO minimum plus an additional 200,000 MTRV. The first tranche of 1,656 MTRV will open on October 1, 2021. All types of specialty sugars are eligible for entry under this tranche. The second tranche of 60,000 MTRV will open on October 8, 2021. The third tranche of 60,000 MTRV will open on January 21, 2022. The fourth tranche of 40,000 MTRV will open on April 15, 2022. The fifth tranche of 40,000 MTRV will open on July 15, 2022. The second, third, fourth, and fifth tranches will be reserved for organic sugar and other specialty sugars not currently produced commercially in the United States or reasonably available from domestic sources.

With respect to the in-quota quantity of 64,709 metric tons of the TRQ for imports of certain sugar-containing products maintained under Additional U.S. Note 8 to chapter 17 of the HTSUS, the U.S. Trade Representative is allocating 59,250 metric tons to Canada. The remainder of the in-quota quantity, 5,459 metric tons, is available for other countries on a first-come, first-served basis.

Raw cane sugar, refined and specialty sugar, and sugar-containing products for FY2022 TRQs may enter the United States as of October 1, 2021.

Greta M. Peisch,
General Counsel, Office of the United States Trade Representative.

[FR Doc. 2021-19951 Filed 9-15-21; 8:45 am]

BILLING CODE 3290-F1-P